DEPARTMENT OF COMMERCE

National Oceanic and Atmospheric Administration

50 CFR Part 660

[Docket No. 160728670-6904-01]

RIN 0648-BG23

Fisheries Off West Coast States; Highly Migratory Fisheries; California Drift Gillnet Fishery; Protected Species Hard Caps for the California/Oregon Large-Mesh Drift Gillnet Fishery

AGENCY: National Marine Fisheries Service (NMFS), National Oceanic and Atmospheric Administration (NOAA), Commerce.

ACTION: Proposed rule; withdrawal.

SUMMARY: The National Marine Fisheries Service (NMFS) withdraws a proposed rule proposing to establish strict limits, termed “hard caps,” for the California/Oregon large-mesh drift gillnet (DGN) fishery on interactions with certain protected species under Magnuson-Stevens Fishery Conservation and Management Act authority. NMFS published the proposed rule in the Federal Register on October 13, 2016. After careful consideration, NMFS has decided that the proposed changes discussed in the proposed rule are not warranted at this time.

DATES: The proposed rule published on October 13, 2016 (81 FR 70660), is withdrawn as of June 12, 2017.

FOR FURTHER INFORMATION CONTACT: Lyle Enriquez, West Coast Region, NMFS, (562) 980-4025, lyle.enriquez@noaa.gov.

SUPPLEMENTARY INFORMATION: In September 2015, the Pacific Fishery Management Council (Council) recommended NMFS implement regulations for the DGN fishery that included two-year rolling hard caps on observed mortality and injury to certain protected species during the May 1 to January 31 fishing season each year. The Council transmitted its proposed regulations for implementing hard caps to NMFS on September 23, 2016. Under the proposed regulations, caps would have been established for five marine mammal species and four sea turtle species. When any of the caps were reached, the fishery would have been closed for the rest of the fishing season and possibly through the following season. The length of any closure would have depended on when during the two-year period a cap was reached.

NMFS published a proposed rule to implement the Council's recommendation to establish protected species hard caps in the Federal Register on October 13, 2016, (81 FR 70660). Supporting documents included a draft Environmental Assessment (EA), an Initial Regulatory Flexibility Analysis, and draft Regulatory Impact Review (RIR). During the proposed rule's comment period, NMFS received a request to extend the comment period. On November 23, 2016, NMFS published a notice in the Federal Register extending the end-date of the comment period for the proposed rule from November 28, 2016 to December 28, 2016 (81 FR 84546).

Following public comment, NMFS completed a final EA, Final Regulatory Flexibility Analysis, and RIR (posted at https://www.regulations.gov/docket?D=NOAA-NMFS-2016-0123). As a result of its analysis of the effects of the proposed rule, NMFS has decided that the changes covered in the proposed rule from 2016 are not warranted at this time. Therefore, NMFS is withdrawing the proposed rule published in the Federal Register on October 13, 2016 (81 FR 70660).

Authority: 16 U.S.C. 1801 et seq.

Dated: June 7, 2017.
Alan D. Risenhoover,
Acting Deputy Assistant Administrator for Regulatory Programs, National Marine Fisheries Service.

[FR Doc. 2017-12070 Filed 6-9-17; 8:45 am]

BILLING CODE 3510-22-P